DEPARTMENT OF COMMERCE

National Oceanic and Atmospheric Administration

50 CFR Part 600

[I.D 020303A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Summer Flounder, Scup, and Black Sea Bass Fishery Management Plan (FMP), the Mid-Atlantic Fishery Council Research Set-Aside Program, and the Atlantic Coastal Fisheries Cooperative Management Act American lobster regulations. However, further review and consultation may be necessary before a final determination is made to issue an EFP. Therefore, NMFS announces that the Regional Administrator proposes to issue an EFP that would allow one vessel to conduct fishing operations otherwise restricted by the regulations governing the fisheries of the Northeastern United States. The vessel would be exempt from the black sea bass Centropristis striata, commercial fishing closure and size limit requirements (size limit exemption is for retaining research samples only), and from Federal lobster/black sea bass pot restrictions in Lobster Management Area 4, lobster trap limits, lobster escape vent requirements, tag requirements in Lobster Management Areas 4 and 5, and any black sea bass area restrictions. The exemptions will allow for experimentation with three different black sea bass escape vent sizes, and for compensation fishing to fund the research.

DATES: Comments on this document must be received on or before 5:00 p.m. EST March 13, 2003.

ADDRESSES: Written comments should be sent to Patricia A. Kurkul, Regional Administrator, NMFS, Northeast Regional Office, 1 Blackburn Drive, Gloucester, MA 01930. Mark the outside of the envelope “Comments on BSB Escape Vent EFP Proposal.” Comments may also be sent via facsimile (fax) to (978) 281-9135.

FOR FURTHER INFORMATION CONTACT: Paul Perra, Fishery Policy Analyst, 978-281-9153.

SUPPLEMENTARY INFORMATION: An application for an EFP was submitted to NMFS by Wizard Enterprises on September 9, 2002. Regulations under the Magnuson-Stevens Fishery Conservation and Management Act require publication of this notification to provide interested parties the opportunity to comment on applications for proposed EFPs. The EFP is being requested to facilitate a research project by one vessel that would compare the effects of three different black sea bass pot escape vents on the structure of black sea bass populations. To provide the greatest potential for fishing success, it would be necessary to allow the vessel to fish for, and possess, black sea bass during closures that may be implemented due to the attainment of the commercial quota and frame work adjustments at 50 CFR, 648 subpart I, and minimum size limits at 50 CFR 648 subpart I (size limit exemption is for retaining research samples only); and to exempt the vessel from the 800 lobster pot limit at 50 CFR 697.19(a)(2), tag restrictions at 50 CFR part 697.19(c), and escape vent requirements at 50 CFR 697.21(c). These exemptions would be necessary for the vessel to fish 144 experimental black sea bass/lobster pots. However, in order to maintain the conservation goals of the regulations for American lobster and to protect marine mammals, no lobster harvest would be allowed from any experimental black sea bass/lobster pots fished in Lobster Area Management 4, and all experimental black sea bass/lobster pots would be required to be fished in conformance with the gear requirements under the Atlantic Large Whale Take Reduction Plan, Marine Mammal Protection Act, and Endangered Species Act. In order to make it economically efficient to provide the funding for the research, the vessel participating in the research project also would be authorized to make additional compensation fishing trips during closed seasons, to land up to a total of 25,000 lb (11,340 kg) of black sea bass. However, no black sea bass smaller than the minimum size of 11 inches (27.9 cm) could be sold, traded, bartered, or processed for sale. Landings from such trips would be sold to generate funds that would defray the costs associated with the research projects.

Traps with either a 2-inch (5.08-cm) square, a 2 3/8-inch (6.03-cm) circular, or a 5 3/4-inch (14.61-cm) rectangular escape vent would be tested. The experiment would use 144 traps set in 12 trap strings. The 12 trap strings would be connected by rope at regular intervals and deployed with one float on each end. Two strings of traps each would be deployed next to six different wrecks off the New Jersey coast. Traps would be pulled once a week from mid-May to mid-November. Approximately 26 day-long research fishing trips are proposed for the project during 2003. The fishing activity would occur primarily off the coast from Manasquan to Cape May, NJ. A NMFS-supervised technician would be onboard the participating vessel during all research trips. Any landings that would occur from research or compensation fishing would be reported in the Vessel Trip Report, as required, because the participating vessel possesses a commercial black sea bass moratorium permit. All landings would be landed in compliance with applicable state landing laws.

Based on the results of the EFPs, this action may lead to future rulemaking.

Authority: 16 U.S.C. 1801 et seq.

Dated: February 19, 2003.
Richard W. Surdi,
Acting Director, Office of Sustainable Fisheries, National Marine Fisheries Service.

[FR Doc. 03-4440 Filed 2-25-03; 8:45 am]

BILLING CODE 3510-22-S